DEPARTMENT OF COMMERCE

National Oceanic and Atmospheric Administration

[RTID 0648-XV181]

Council Coordination Committee Meeting

AGENCY: National Marine Fisheries Service (NMFS), National Oceanic and Atmospheric Administration (NOAA), Commerce.

ACTION: Notice of a public meeting; information regarding the agenda.

SUMMARY: The Western Pacific Fishery Management Council (WPFMC) will host a virtual meeting of the Council Coordination Committee (CCC), consisting of the Regional Fishery Management Council chairs, vice chairs, and executive directors on May 27 to May 28, 2020. The intent of this meeting is to discuss issues of relevance to the Councils and NMFS, including issues related to the implementation of the Magnuson-Stevens Fishery Conservation and Management Reauthorization Act. All sessions are open to the public and time will be set aside for public comments at the end of each session.

DATES: The meeting will begin at 1:30 p.m. Eastern on Wednesday, May 27, 2020, recess at 5:30 p.m. Eastern, reconvene at 1:30 p.m. Eastern on Wednesday, May 28, 2018, and adjourn by 5:30 p.m. Eastern.

ADDRESSES: The meeting will be held online via WebEx. A link to the conference and instructions for submitting public comment will be available at https://www.fisheries.noaa.gov/national/partners/council-coordination-committee and http://www.fisherycouncils.org/.

FOR FURTHER INFORMATION CONTACT: Nicholas Pieper by email at Nicholas.Pieper@noaa.gov or at (301) 427-8500.

SUPPLEMENTARY INFORMATION: The Magnuson-Stevens Fishery Conservation and Management Reauthorization Act established the CCC. The CCC consists of the chairs, vice chairs, and executive directors of each of the eight Regional Fishery Management Councils or other Council members or staff. Updates to this meeting and additional information will be posted on https://www.fisheries.noaa.gov/national/partners/council-coordination-committee and http://www.fisherycouncils.org/ when available.

Proposed Agenda

Wednesday, May 27, 2020—1:30 p.m.-5:30 p.m. Eastern

1. Welcome/Introductions

2. Recent issues with Council Operations and NMFS Rulemaking

3. CARES Act—$300M stimulus package for fisheries and aquaculture

4. NMFS Updates

a. Priorities

b. NS1 Technical Guidance Workgroups

c. Status of NMFS Policy Directives/Prioritization development

d. NEPA Policy Update including Functional Equivalency

e. Status of Bycatch Initiatives

f. NMFS Guidance on Changing Stock Status from Known to Unknown

g. Offshore Wind Issues

5. Public Comment

Thursday, May 28, 2020—1:30 p.m.-5:30 p.m. Eastern

1. Management and Budget Update

2. Legislative Issues

3. CCC Committees/Working Groups

a. Scientific Coordination Subcommittee

b. Habitat Working Group

4. Administrative

a. Update on Voting Recusals

b. Freedom of Information Act

5. Other Business

6. Public Comment

The order in which the agenda items are addressed may change. The CCC will meet as late as necessary to complete scheduled business.

Special Accommodations

If you have particular access needs please contact Nicholas Pieper at Nicholas.pieper@noaa.gov prior to the meeting for accommodation.

Dated: May 6, 2020.
Hélène Scalliet,
Acting Deputy Director, Office of Sustainable Fisheries, National Marine Fisheries Service.

[FR Doc. 2020-10023 Filed 5-8-20; 8:45 am]

BILLING CODE 3510-22-P